DEPARTMENT OF DEFENSE

Department of the Army; Corps of Engineers

Termination of an Environmental Impact Statement for the Construction and Operation of a 300-MW Coal-Fired Electric Generating Unit Proposed by Wisconsin Power and Light Company Near Cassville in Grant County, WI

AGENCY: Department of the Army, U.S. Army Corps of Engineers, DoD.

ACTION: Notice of Termination.

SUMMARY: The St. Paul District, Corps of Engineers (Corps) is canceling the preparation of a federal Environmental Impact Statement (EIS) for the proposal by Wisconsin Power and Light Company (WPL) to conduct work below the ordinary high water mark of the Mississippi River, a navigable water of the U.S., and to discharge dredged or fill material into waters of the U.S. to facilitate the construction and operation of a 300 megawatt (MW) baseload coal-fired electric generating unit, referred to as NED 3, near Cassville in Grant County, WI. The Corps has terminated its review of the WPL permit application due to WPL's withdrawal of their permit application on November 21, 2008.

ADDRESSES: Questions concerning this termination notice can be addressed to Ms. Tamara Cameron, Regulatory Branch by letter at U.S. Army Corps of Engineers, 190 Fifth Street East, Suite 401, St. Paul, MN 55101-1638, by telephone or by e-mail at tamara.e.cameron@usace.army.mil.

FOR FURTHER INFORMATION CONTACT: Ms. Tamara Cameron, (651) 290-5197.

SUPPLEMENTARY INFORMATION: On January 17, 2008 the Corps published in the Federal Register (73 FR 3241) a notice of intent to prepare an EIS jointly with the Public Service Commission of Wisconsin (PSCW). Scoping meetings were held in January and March, 2008 and a notice of availability of the draft EIS was published in the Federal Register (73 FR 30099) on May 23, 2008.

In July 2008, WPL modified their proposal so that work would be done under and over the Mississippi River, but not in the River, and there would be no discharges of dredged or fill material into any waters of the U.S. On November 21, 2008, WPL withdrew their permit application, and consequently the Corps has decided to terminate the EIS.

If WPL submits a subsequent permit application for work over and/or under the Mississippi River, as detailed in their most recent proposal, the Corps would evaluate the application under the terms of a Nationwide Permit, as applicable, or prepare an Environmental Assessment as part of its standard permit application review.

Dated: December 22, 2008.
Jon L. Christensen,
Colonel, Corps of Engineers, District Engineer.

[FR Doc. E9-36 Filed 1-6-09; 8:45 am]

BILLING CODE 3720-58-P